DEPARTMENT OF LABOR

Employment and Training Administration

[TA-W-59,227]

The York Group Metal Casket Assembly; Matthews Casket Division; A Subsidiary of Matthews International; Marshfield, MO; Notice of Affirmative Determination Regarding Application for Reconsideration

By letter dated June 18, 2006, a petitioner requested administrative reconsideration of the Department of Labor's Notice of Negative Determination Regarding Eligibility to Apply for Worker Adjustment Assistance, applicable to workers of the subject firm. The denial notice was signed on May 17, 2006, and published in the Federal Register on June 9, 2006 (71 FR 33488).

The initial investigation resulted in a negative determination based on the finding that the subject firm did not separate or threaten to separate a significant number or proportion of workers as required by section 222 of the Trade Act of 1974. Significant number or proportion of the workers in a firm or appropriate subdivision thereof, means that at least three workers with a workforce of fewer than 50 workers or five percent of the workers with a workforce of 50 or more.

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 12th of July 2006.
Elliott S. Kushner,
Certifying Officer, Division of Trade Adjustment Assistance.

[FR Doc. E6-11861 Filed 7-24-06; 8:45 am]

BILLING CODE 4510-30-P